DEPARTMENT OF JUSTICE

Antitrust Division

Notice Pursuant to the National Cooperative Research and Production Act of 1993—The Open Group, L.L.C.

Notice is hereby given that, on October 26, 2017, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, C T Carlson L.L.C., Renton, WA; Cognoscenti Systems, L.L.C., Baltimore, MD; Digital Receiver Technology, Inc., Germantown, MD; iCONS Innovative Consulting SRL, Seregno, ITALY; North Atlantic Industries, Inc., Bohemia, NY; OPC Foundation, Ravenna, OH; Overnet Solutions SRL, Rozanno, ITALY; PAS Global L.L.C., Houston, TX; QRP SRL, Como, ITALY; Reliance Industries Limited, Navi Mumbai, INDIA; Rockwell Automation, Inc., Milwaukee, WI; Service-Flow Corp., Helsinki, FINLAND; Sinapse Pty. Ltd., Richmond, AUSTRALIA; SizweNtsalubaGobodo, Johannesburg, SOUTH AFRICA; State Bank of India, Navi Mumbai, INDIA; Unique Factors Corporation, Rockland, CANADA; Universidad Iberoamericana, Mexico City, MEXICO; W.L. Gore & Associates, Inc., Landenberg, PA; and Woodside Energy Ltd., Perth, AUSTRALIA, have been added as parties to this venture.

Also, Adept Technology Pvt. Ltd., Chennai, INDIA; ARTEMIS, Hauppauge, NY; Axiomatics AB, Stockholm, SWEDEN; Blue Hawk B&IT Management, Sao Paulo, BRAZIL; Central Bank of the Republic of Turkey, Ankara, TURKEY; Centre for Open Systems, Croydon, AUSTRALIA; CyberCore Technologies, L.L.C., Elkridge, MD; Dansk Unix-system brugergruppe (DKUUG), Copenhagen, DENMARK; General Atomics Aeronautical Systems, Inc., Poway, CA; Inteca sp. z.o.o., Wroclaw, POLAND; ITRI College, Chutung, TAIWAN; Jiangxi University of Finance and Economics, Nanchang, PEOPLE'S REPUBLIC OF CHINA; Open GIS Consortium, Inc., Bloomington, IN; Shanghai Super Information Technology Co. Ltd., Shanghai, PEOPLE'S REPUBLIC OF CHINA; Sites Learning India. Pvt. Ltd., New Delhi, INDIA; and Universidad de Cantabria, Santander, SPAIN, have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on July 24, 2017. A notice was published in the Federal Register pursuant to Section 6(b) of the Act on August 16, 2017 (82 FR 38938).

Patricia A. Brink,
Director of Civil Enforcement, Antitrust Division.

[FR Doc. 2017-24758 Filed 11-15-17; 8:45 am]

BILLING CODE P